DEPARTMENT OF ENERGY

Federal Energy Regulatory Commission

Notice of FERC Staff Participation In Conference Call Between California Independent System Operator Corporation and Market Participants

September 23, 2004.

The Federal Energy Regulatory Commission hereby gives notice that members of its staff may participate in the conference call between the California Independent System Operator Corporation and its stakeholders on September 24, 2004, to discuss issues pertaining to the status of the scheduled refund re-runs.

The discussion may address matters at issue in the following proceedings:

San Diego Gas & Electric Co. v. Sellers of Energy & Ancillary Serv., et al.Docket Nos., EL00-95-000, EL00-98-000, et al.

California Independent System Operator Corporation,Docket No. ER03-746-000, et al.

The conference call will begin at 12 noon p.d.t. and will last for approximately 1 hour.

For more information contact Shawn Bennett, Office of Markets, Tariffs and Rates, Federal Energy Regulatory Commission at (202) 502-8930 or shawn.bennett@ferc.gov.

Magalie R. Salas,
Secretary.

[FR Doc. E4-2422 Filed 9-29-04; 8:45 am]

BILLING CODE 6717-01-P